DEPARTMENT OF HOMELAND SECURITY

U.S. Customs and Border Protection

Postponement of the April 2020 Customs Broker's License Examination

AGENCY: U.S. Customs and Border Protection, Department of Homeland Security.

ACTION: General notice.

SUMMARY: This document announces that U.S. Customs and Border Protection (CBP) has postponed the customs broker's license examination scheduled for April 1, 2020. The examination is postponed due to the unprecedented situation related to the coronavirus (COVID-19), which is having a nationwide impact on CBP's ability to conduct the examination.

DATES: The customs broker's license examination scheduled for April 1, 2020 is postponed.

FOR FURTHER INFORMATION CONTACT: Randy Mitchell, Director, Commercial Operations, Revenue and Entry, Office of Trade, (202) 325-6532, or brokermanagement@cbp.dhs.gov.

SUPPLEMENTARY INFORMATION:

Background

Section 641 of the Tariff Act of 1930, as amended (19 U.S.C. 1641), provides that a person (an individual, corporation, association, or partnership) must hold a valid customs broker's license and permit in order to transact customs business on behalf of others, sets forth standards for the issuance of brokers' licenses and permits, and provides for the taking of disciplinary action against brokers that have engaged in specified types of infractions. This section also provides that an examination may be conducted to assess an applicant's qualifications for a license.

The regulations issued under the authority of section 641 are set forth in Title 19 of the Code of Federal Regulations, part 111 (19 CFR part 111). Part 111 sets forth the regulations regarding the licensing of, and granting of permits to, persons desiring to transact customs business as customs brokers. These regulations also include the qualifications required of applicants and the procedures for applying for licenses and permits. Section 111.11 of the U.S. Customs and Border Protection (CBP) regulations (19 CFR 111.11) sets forth the basic requirements for a broker's license, and in paragraph (a)(4) of that section provides that an applicant for an individual broker's license must attain a passing grade (75 percent or higher) on the examination.

Section 111.13 of the CBP regulations (19 CFR 111.13) sets forth the requirements and procedures for the examination for an individual broker's license and states that the customs broker's license examinations will be given on the fourth Wednesday in April and October unless the regularly scheduled examination date conflicts with a national holiday, religious observance, or other foreseeable event.

The unprecedented situation related to the coronavirus (COVID-19) has a nationwide impact on CBP's ability to conduct the customs broker's license examination. Testing facilities are being closed beyond CBP's control, and best practices for social distancing and limiting the size of gatherings militate against CBP attempting to establish alternative testing formats and sites. Accordingly, this document announces that the April 1, 2020 exam is postponed, and that the October exam date is still scheduled for October 8, 2020, as previously announced in a Federal Register notice (84 FR 71440) published on December 27, 2019. If another test date is identified, CBP will publish a notice in the Federal Register announcing that new date. In addition, CBP will continue to provide information on www.CBP.gov.

Dated: March 19, 2020.
Brenda B. Smith,
Executive Assistant Commissioner, Office of Trade.

[FR Doc. 2020-06407 Filed 3-24-20; 4:15 pm]

BILLING CODE 9111-14-P